DEPARTMENT OF HOMELAND SECURITY

Coast Guard

33 CFR Part 165

[CGD05-07-123]

RIN 1625-AA00

Safety Zone: Transit of Industrial Cranes, Cape Fear River, Wilmington, NC

AGENCY: Coast Guard, DHS.

ACTION: Temporary final rule.

SUMMARY: The Coast Guard is establishing a safety zone from the mouth of the Cape Fear River to the Cape Fear Memorial Bridge to provide for the safety of the public during the transit and mooring of a vessel carrying four (4) large industrial cranes. The cranes are of such size and dimension that they will create a significant obstruction to safe navigation for other vessels operating in the vicinity. Restricting vessel traffic is necessary to ensure the safety of the public. Vessel traffic will only be restricted during the transit of the vessel.

DATES: This rule is effective from 1 a.m. on February 1, 2007 until 11 p.m. on February 15, 2007.

ADDRESSES: Documents indicated in this preamble as being available in the docket are part of docket CGD05-06-123 and are available for inspection or copying at the Coast Guard Marine Safety Unit Wilmington, North Carolina between 8 a.m. and 4 p.m., Monday through Friday, except Federal Holidays.

FOR FURTHER INFORMATION CONTACT: LT Tim Grant, Chief of Response, Coast Guard Marine Safety Unit Wilmington, North Carolina at (910) 772-2191.

SUPPLEMENTARY INFORMATION:

Regulatory Information

Pursuant to 5 U.S.C. 553(b)(B), a notice of proposed rulemaking (NPRM) was not published for this regulation. Good cause exists for not publishing a NPRM. Any delay encountered in this regulation's effective date by publishing a NPRM would be contrary to public interest since immediate action is needed to prevent traffic from transiting the waters of the Cape Fear River. A safety zone is needed in order to provide for the safety of life and property on navigable waters of the Cape Fear River. The regulated area will consist of the complete closure of the Cape Fear River to vessel traffic movement beginning at the International Regulations for Prevention of Collisions at Sea, 1972 (COLREGS, 72) Demarcation Line drawn from Oak Island Light House to Bald Head Island Abandon Light House noted on NOAA chart 11537 and proceeding north up the Cape Fear River bank to bank to the Cape Fear Memorial Bridge. The safety zone will be enforced until the vessel transporting the cranes has been safely moored at North Carolina State Port Authority berth #8.

Background and Purpose

Sometime between February 1, 2007 and February 15, 2007, The North Carolina State Port Authority (NCSPA) intends to bring in four (4) new cranes to enhance container operations at the NCSPA's facility located on the Cape Fear River, Wilmington, North Carolina. The combination of the size of the cranes and the restricted maneuverability in the Cape Fear River necessitates the temporary restriction of all commercial vessel movement in the Cape Fear River to protect mariners from the hazards associated with this event. This temporary safety zone will be enforced for approximately five (5) to seven (7) hours on a day between February 1 and February 15 when the transit of the vessel carrying four large industrial cranes occurs. The zone will only be enforced on the day during the transit. The zone will not be enforced on subsequent days during the duration of the effective period. The zone will have minimal impact on vessel transits because the waterway will only be closed for five to seven hours.

Discussion of Rule

The Coast Guard is establishing a safety zone on the specified waters of the Cape Fear River. The regulated area will consist of the complete closure of the Cape Fear River to vessel traffic movement beginning at the International Regulations for Prevention of Collisions at Sea, 1972 (COLREGS, 72) Demarcation Line drawn from Oak Island Light House to Bald Head Island Abandon Light House noted on NOAA chart 11537 and proceeding north up the Cape Fear River bank to bank to the Cape Fear Memorial Bridge. The safety zone will be in effect from 1 a.m. on February 1, 2007 to 11 p.m. on February 15, 2007. The zone will be enforced for approximately five (5) to seven (7) hours on a day between February 1 and February 15 when the transit of the vessel carrying four large industrial cranes occurs. After February 15, 2007 the zone will no longer be in effect. Except for participants and vessels authorized by the Coast Guard Patrol Commander, no person or vessel may enter or remain in the regulated area.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary. Although this regulation restricts access to the regulated area, the effect of this rule will not be significant because: (i) The COTP may authorize access to the safety zone; (ii) the safety zone will be in effect for a limited duration; and (iii) the Coast Guard will make notifications via maritime advisories so mariners can adjust their plans accordingly.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: the owners and operators of vessels intending to transit or anchor in that portion of the Cape Fear River between the dates of February 1, 2007 and February 15, 2007. The safety zone will not have a significant impact on a substantial number of small entities, because the zone will only be in place for approximately five (5) to seven (7) hours and maritime advisories will be issued, so the mariners can adjust their plans accordingly.

Assistance for Small Entities

Under section 213(a) of the Small Business Regulatory Enforcement Fairness Act of 1996 (Pub. L. 104-121), we want to assist small entities in understanding this rule so that they can better evaluate its effects on them and participate in the rulemaking. If the rule would affect your small business, organization, or governmental jurisdiction and you have questions concerning its provisions or options for compliance, please contact LT Tim Grant, Chief of Response, Coast Guard Marine Safety Unit Wilmington, North Carolina at (910) 772-2191. Small businesses may send comments on the actions of Federal employees who enforce, or otherwise determine compliance with, Federal regulations to the Small Business and Agriculture Regulatory Enforcement Ombudsman and Regional Small Business Regulatory Fairness Boards. The Ombudsman evaluates these actions annually and rates each agency's responsiveness to small business. If you wish to comment on actions by employees of the U.S. Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that will limit the use of a categorical exclusion under section 2.B.2 of the Instruction. Therefore, this rule is categorically excluded, under figure 2-1, paragraph (34)(g), of the Instruction, from further environmental documentation. A final “Environmental Analysis Check List” and a final “Categorical Exclusion Determination” will be available in the docket where indicated under ADDRESSES.

List of Subjects in 33 CFR Part 165

Harbors, Marine safety, Navigation (water), Reporting and recordkeeping requirements, Security measures, and Waterways.

For the reasons discussed in the preamble, the Coast Guard amends 33 CFR part 165 subpart C as follows:

PART 165—REGULATED NAVIGATION AREAS AND LIMITED ACCESS AREAS

1. The authority citation for part 165 continues to read as follows:

Authority: 33 U.S.C. 1226, 1231; 50 U.S.C. 191, 195; 33 CFR 1.05-1(g), 6.04-1, 6.04-6, and 160.5.; Department of Homeland Security Delegation No. 0170; 46 U.S.C. Chapter 701; Pub. L. 107-295, 116 Stat. 2064.

2. Add Temporary § 165.T05-123, to read as follows:

§ 165.T05-123 Safety Zone: Cape Fear River, Wilmington, North Carolina.

(a) Location: The following area is a safety zone: All waters of the Cape Fear River from COLREGS Demarcation Line drawn from Oak Island Light House to Bald Head Island Abandon Light House noted on NOAA chart 11537 and proceeding north up the Cape Fear River bank to bank to the Cape Fear Memorial Bridge, in the Captain of the Port Cape Fear River, Wilmington North Carolina zone as defined in 33 CFR § 3.25-20.

(b) Definition: As used in this section; Captain of the Port: means any U.S. Coast Guard commissioned, warrant or petty officer who has been authorized by the Captain of the Port, Cape Fear River, Wilmington, North Carolina to act on his behalf.

(c) Regulation: (1) In accordance with the general regulations in 165.23 of this part, entry into this zone is prohibited unless authorized by the Captain of the Port, Cape Fear River, Wilmington, North Carolina, or designated representative.

(2) The operator of any vessel in the immediate vicinity of this safety zone shall:

(i) Stop the vessel immediately upon being directed to do so by any commissioned, warrant or petty officer on board a vessel displaying a U.S. Coast Guard Ensign.

(ii) Proceed as directed by any commissioned, warrant or petty officer on board a vessel displaying a U.S. Coast Guard Ensign.

(3) The Captain of the Port, Cape Fear River Wilmington, North Carolina can be contacted at telephone number (910) 772-2191/94 or (910) 512-5830/31.

(4) Coast Guard vessels enforcing the safety zone can be contacted on VHF-FM marine band radio, channel 13 (156.65 MHz) and channel 16 (156.8 MHz).

(d) Enforcement period: The zone will be enforced for approximately five (5) to seven (7) hours on a day between February 1 and February 15 when the transit of the vessel carrying four large industrial cranes occurs. If the transit occurs as planned on a day during this period, then the zone will not be enforced on subsequent days during the duration of the effective period.

(e) Effective Date: This regulation is effective from 1 a.m. on February 1, 2007 until 11 p.m. on February 15, 2007.

Dated: December 18, 2006.
Byron L. Black,
Commander, U.S. Coast Guard, Captain of the Port, Cape Fear River, Wilmington, North Carolina.

[FR Doc. E6-22440 Filed 12-28-06; 8:45 am]

BILLING CODE 4910-15-P